DEPARTMENT OF HEALTH AND HUMAN SERVICES

National Institutes of Health

Center for Scientific Review; Amended Notice of Meeting

Notice is hereby given of a change in the meeting of the Integrative, Functional and Cognitive Neuroscience 3, June 9, 2003, 9 a.m. to June 9, 2003, 5 p.m., Hyatt Regency Bethesda, One Bethesda Metro Center, 7400 Wisconsin Avenue, Bethesda, MD, 20814 which was published in the Federal Register on May 7, 2003, 68 FR 24493-24495.

The meeting has been changed to June 13, 2003. The location and time remains the same. The meeting is closed to the public.

Dated: May 16, 2003.
LaVerne Y. Stringfield,
Director, Office of Federal Advisory Committee Policy.

[FR Doc. 03-13086 Filed 5-23-03; 8:45 am]

BILLING CODE 4140-01-M